DEPARTMENT OF TRANSPORTATION

Federal Aviation Administration

Ninth Meeting, Special Committee 214/Working Group 78: Standards for Air Traffic Data Communication Services

AGENCY: Federal Aviation Administration (FAA), DOT.

ACTION: Notice of RTCA Special Committee 214/Working Group 78: Standards for Air Traffic Data Communication Services.

SUMMARY: The FAA is issuing this notice to advise the public of a meeting of the RTCA Special Committee 214/Working Group 78: Standards for Air Traffic Data Communication Services.

DATES: The meeting will be held December 14-18, 2009 from 9 a.m.-5 p.m.

ADDRESSES: The meeting will be held at the Marriott Pyramid North Hotel, 5151 San Francisco Road NE., Albuquerque, New Mexico 87109, U.S.A., Telephone: +1-505-821-3333.

SUPPLEMENTARY INFORMATION: Pursuant to section 10(a)(2) of the Federal Advisory Committee Act (Pub. L. 92-463, 5 U.S.C., Appendix 2), notice is hereby given for a Special Committee 214/Working Group 78: Standards for Air Traffic Data Communication Services meeting. The agenda will include:

Meeting Objectives

• Acceptance of the Criteria for Release of Mature Draft #2.

• Acceptance of Release of Mature Draft #2.

• Acceptance of the Plan for Release of Mature Draft #2.

• Acceptance of TOR Revisions to be Proposed to RTCA & Eurocae:

• Harmonization of Continental and Oceanic Data Link Standards.

• Revision of VDL mode 2 MOPS and MASPS.

• Development of Data Link Security Requirements.

Agenda

Monday Morning (14 DEC): Review of Status and Needs

• Welcome/Introductions/Administrative Remarks.

• Approval of the Agenda.

• Approval of the Summary of Plenary # 8.

• Summary of Review Status:

• WP1.

• WP2.

Monday Afternoon: SC-214/WG78 Plenary Session

• Acceptance of the Criteria for Release of Mature Draft #2.

• Debate of Unresolved Major Comments, Recommendations for Resolution, and Items for Further Subgroup Consideration.

Tuesday Morning (15 DEC): SC-214/WG78 Plenary Session

• Debate of Unresolved Major Comments, Recommendations for Resolution, and Items for Further Subgroup Consideration.

Tuesday Afternoon: Subgroup Working Sessions

• Incorporation of Plenary Guidance for Major Comments and Consideration of Items Referred from Plenary.

Wednesday (16 DEC): Subgroup Working Sessions

• Incorporation of Plenary Guidance for Major Comments and Consideration of Items Referred from Plenary.

Thursday (17 DEC): SC-214/WG78 Plenary Session

• Tabling of Issues Remaining to be Resolved Prior to Release of Mature Draft #2.

• Debate of Recommendations for Resolution of Remaining Items.

• Agreement of Prelease Changes to be Incorporated by Editorial Subgroup.

• Agreement to Release Mature Draft #2 Subject to Incorporation of Prerelease changes.

• Acceptance of Plan for Release of Mature Draft #2.

Friday Morning (18 DEC): SC-214/WG78 Plenary Session

• Acceptance of TOR Revisions to be Proposed to RTCA & EUROCAE.

• Review Dates and Locations Upcoming Meetings.

• Any Other Business.

• Adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 23, 2009.
Francisco Estrada C.,
RTCA Advisory Committee.

[FR Doc. E9-28646 Filed 11-30-09; 8:45 am]

BILLING CODE 4910-13-P